DEPARTMENT OF THE INTERIOR

Bureau of Indian Affairs

[DR.5A211.IA000413]

Renewal of Agency Information Collection for Federal Acknowledgment of Tribes

AGENCY: Bureau of Indian Affairs, Interior.

ACTION: Notice of submission to OMB.

SUMMARY: In compliance with the Paperwork Reduction Act of 1995, the Assistant Secretary—Indian Affairs is submitting to the Office of Management and Budget (OMB) approval for the collection of information for Federal Acknowledgment of Tribes. This information collection is currently authorized by OMB Control Number 1076-0104, which expires August 31, 2014.

DATES: Interested persons are invited to submit comments on or before September 29, 2014.

ADDRESSES: You may submit comments on the information collection to the Desk Officer for the Department of the Interior at the Office of Management and Budget, by facsimile to (202) 395-5806 or you may send an email to: OIRA_Submission@omb.eop.gov. Please send a copy of your comments to R. Lee Fleming, Director, Office of Federal Acknowledgment, Assistant Secretary—Indian Affairs, 1951 Constitution Avenue NW., MS-34B SIB, Washington, DC 20240; facsimile: (202) 219-3008; email: Lee.Fleming@bia.gov.

FOR FURTHER INFORMATION CONTACT: R. Lee Fleming, (202) 513-7650.

SUPPLEMENTARY INFORMATION:

I. Abstract

The Assistant Secretary—Indian Affairs held listening sessions in July and August 2013 and consultation sessions in July and August 2014 to receive feedback on ways to improve the Department's process for acknowledging an Indian tribe, as set forth in 25 CFR 83. The Assistant Secretary is currently in the process of revising the process for acknowledging an Indian tribe; however, this request for extension for this information collection request does not include the suggestions and feedback from the listening sessions and consultations. To not stall or delay potential petitioners that may want to submit this information, the Assistant Secretary—Indian Affairs is requesting an extension of the approval for the information collection conducted under 25 CFR 83.

The information collection is conducted under 25 CFR 83, to establish whether a petitioning group has the characteristics necessary to be acknowledged as having a government-to-government relationship with the United States. Federal recognition makes the group eligible for benefits from the Federal Government. Approval for this collection expires August 31, 2014. Three forms are used as part of this information collection.

II. Request for Comments

The Assistant Secretary—Indian Affairs requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents.

Please note that an agency may not conduct or sponsor, and an individual need not respond to, a collection of information unless it has a valid OMB Control Number.

It is our policy to make all comments available to the public for review at the location listed in the ADDRESSES section. Before including your address, phone number, email address or other personal identifying information in your comment, you should be aware that your entire comment—including your personal identifying information—may be made publicly available at any time. While you can ask us in your comment to withhold your personal identifying information from public review, we cannot guarantee that we will be able to do so.

III. Data

OMB Control Number: 1076-0104.

Title: Documented Petitions for Federal Acknowledgment as an Indian Tribe, 25 CFR 83.

Brief Description of Collection: Submission of this information allows Office of Federal Acknowledgment (OFA) to review applications for the Federal acknowledgment of a group as an Indian tribe. The acknowledgment regulations at 25 CFR 83 contain seven criteria that unrecognized groups seeking Federal acknowledgment as Indian tribes must demonstrate that they meet. Information collected from petitioning groups under these regulations provides anthropological, genealogical and historical data used by the Assistant Secretary—Indian Affairs to establish whether a petitioning group has the characteristics necessary to be acknowledged as having a government-to-government relationship with the United States. Respondents are not required to retain copies of the information submitted to OFA but will probably maintain copies for their own use; therefore, there is no recordkeeping requirement included in this information collection.

Type of Review: Extension without change of currently approved collection.

Respondents: Groups petitioning for Federal acknowledgment as Indian tribes.

Number of Respondents: 10 per year, on average.

Number of Responses: 10 per year, on average.

Frequency of Response: Once.

Estimated Time per Response: 2,075 hours.

Estimated Total Annual Hour Burden: 20,750 hours.

Dated: August 26, 2014.
Philip Brinkley,
Assistant Director for Information Resources.

[FR Doc. 2014-20679 Filed 8-28-14; 8:45 am]

BILLING CODE 4310-G1-P